FEDERAL DEPOSIT INSURANCE CORPORATION

Notice of Termination of Receiverships

The Federal Deposit Insurance Corporation (FDIC or Receiver), as Receiver for each of the following insured depository institutions, was charged with the duty of winding up the affairs of the former institutions and liquidating all related assets. The Receiver has fulfilled its obligations and made all dividend distributions required by law.

Notice of Termination of Receiverships
Fund | Receivership name | City | State | Termination date
10011 | Columbian Bank & Trust Co | Topeka | KS | 02/01/2023
10018 | Alpha Bank & Trust | Alpharetta | GA | 02/01/2023
10031 | MagnetBank | Salt Lake City | UT | 02/01/2023
10043 | Security Savings Bank | Henderson | NV | 02/01/2023
10104 | Dwelling House Savings and Loan Association | Pittsburgh | PA | 02/01/2023
10121 | Irwin Union Bank, F.S.B | Louisville | KY | 02/01/2023
10200 | Advanta Bank Corp | Draper | UT | 02/01/2023
10282 | Los Padres Bank | Solvang | CA | 02/01/2023
10343 | Charter Oak Bank | Napa | CA | 02/01/2023

The Receiver has further irrevocably authorized and appointed FDIC-Corporate as its attorney-in-fact to execute and file any and all documents that may be required to be executed by the Receiver which FDIC-Corporate, in its sole discretion, deems necessary, including but not limited to releases, discharges, satisfactions, endorsements, assignments, and deeds. Effective on the termination dates listed above, the Receiverships have been terminated, the Receiver has been discharged, and the Receiverships have ceased to exist as legal entities.

(Authority: 12 U.S.C. 1819)

Federal Deposit Insurance Corporation.
Dated at Washington, DC, on February 1, 2023.
James P. Sheesley,
Assistant Executive Secretary.

[FR Doc. 2023-02400 Filed 2-3-23; 8:45 am]

BILLING CODE P